POSTAL REGULATORY COMMISSION

[Docket No. MC2011-27; Order No. 785]

Mail Classification Change

AGENCY: Postal Regulatory Commission.

ACTION: Notice.

SUMMARY: The Commission is noticing a recently-filed Postal Service request for a change in classification to the “Reply Rides Free” program. The change increases the qualifying First-Class mail letter weight. This notice addresses procedural steps associated with this filing.

DATES: Comments are due: August 12, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in the FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On July 29, 2011, the Postal Service filed a notice of classification change pursuant to 39 CFR 3020.90 and 3020.91 concerning the Reply Rides Free program.¹ The classification change increases the qualifying First-Class Mail letter weight from no more than 1.2 ounces to no more than 2 ounces. The volume commitment for customers who begin participation in the program on September 1, 2011 or later will be prorated based on their volume during September—December 2010, as a proportion of total 2010 volume. The Postal Service states the change will be effective on September 1, 2011.

¹ Notice of the United States Postal Service of Classification Change Related to Reply Rides Free Program, July 29, 2011 (Notice).

The Commission establishes Docket No. MC2011-27 for consideration of matters related to the proposed classification change identified in the Postal Service's Notice.

Interested persons may submit comments on whether the Postal Service's request is consistent with the policies of 39 U.S.C. 3642 and generally with the provisions of title 39. Comments are due no later than August 12, 2011. The Postal Service's Notice can be accessed via the Commission's Web site (http://www.prc.gov).

The Commission appoints James F. Callow to serve as Public Representative in the captioned proceeding.

It is ordered:

1. The Commission establishes Docket No. MC2011-27 for consideration of matters raised by the Postal Service's Notice.

2. Comments by interested persons are due no later than August 12, 2011.

3. Pursuant to 39 U.S.C. 505, James F. Callow is appointed to serve as the officer of the Commission (Public Representative) to represent the interests of the general public in this proceeding.

4. The Secretary shall arrange for publication of this order in the Federal Register.

By the Commission.
Shoshana M. Grove,
Secretary.

[FR Doc. 2011-19888 Filed 8-4-11; 8:45 am]

BILLING CODE 7710-FW-P